DEPARTMENT OF HEALTH AND HUMAN SERVICES

Administration for Children and Families

Submission for OMB Review; Comment Request

Title: Follow-up to the National Survey of Child and Adolescent Well-Being.

OMB No.: 0970-0202.

Description: The Department of Health and Human Services intends to collect data on a subset of children and families who have participated in the National Survey of Child and Adolescent Well-Being (NSCAW). The NSCAW was authorized under Section 429 of the Personal Responsibility and Work Opportunity Reconciliation Act of 1996. The survey began in November 1999 with a national sample of 5,501 children ages 0-14 who had been the subject of investigation by Child Protective Services (CPS) during the baseline data collection period, which extended from November 1999 through April 2000. Direct assessments and interviews were conducted with the children themselves, their primary caregivers, their caseworkers, and, for school-aged children, their teachers.

Follow-up data collections were conducted 12 months, 18 months and 36 months post-baseline. The current data collection plan involves only a subset of 1,497 children from the original sample, that is, children who were ages 0-12 months during the baseline period. The original sample design for NSCAW was stratified to include an over-sample of infants; thus, the subset that is the subject of this data collection is a representative sample of infants who were the targets of CPS investigations during the survey's baseline data collection period. This group will be at the beginning of their formal schooling as the next data collection begins, and will allow for the identification of early risk and protective factors, as well as the influence of services and service systems, on their functioning as they enter this critical transition period.

The NSCAW is unique in that it is the only source of nationally representative, firsthand information about the functioning and well-being, service needs and service utilization of children and families who come to the attention of the child welfare system. Information is collected about children's cognitive, social, emotional, behavioral and adaptive functioning, as well as family and community factors that are likely to influence their functioning. Family service needs and service utilization also are addressed in the data collection. The data collection for the follow-up will follow the same format as that used in previous rounds of data collection, and will employ the same instruments that have been used with 5- to 7-year-olds in previous rounds. Data from NSCAW are made available to the research community through licensing arrangements from the National Data Archive on Child Abuse and Neglect, housed at Cornell University.

Respondents: Children, who are clients of the child welfare system, their primary caregivers, caseworkers, and teachers.

Annual Burden Estimates
Instrument | Number of respondents | Number of responses per respondent | Average burden hours per response | Total burden hours
Child Interview | 1,017 | 1 | 1.10 | 1,119
Caregiver Interview | 1,017 | 1 | 1.40 | 1,424
Caseworker Interview | 299 | 1 | .75 | 224
Teacher Questionnaire | 790 | 1 | .75 | 592
Salivary cortisol collection | 299 | 1 | 1.25 | 374

Estimated Total Annual Burden Hours: 3,733.

Additional Information: Copies of the proposed collection may be obtained by writing to the Administration for Children and Families, Office of Administration, Office of Information Services, 370 L'Enfant Promnade, SW., Washington, DC 20447, Attn: ACF Reports Clearance Officer. All requests should be identified by the title of the information collection. E-mail address: grjohnson@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Attn: Desk Officer for ACF, E-mail address: Katherine_T._Astrich@omb.eo.gov.

Dated: June 13, 2005.
Robert Sargis,
Reports Clearance Officer.

[FR Doc. 05-11969 Filed 6-16-05; 8:45 am]

BILLING CODE 4184-01-M